NUCLEAR REGULATORY COMMISSION

[Docket Nos. 50-338 and 50-339]

Virginia Electric and Power Company; Notice of Withdrawal of Application for Amendments to Renewed Facility Operating License Nos. NPF-4 and NPF-7

The U.S. Nuclear Regulatory Commission (the Commission) has granted the request of Virginia Electric and Power Company (the licensee) to withdraw its March 4, 2004, application for proposed amendments to Renewed Facility Operating License Nos. NPF-4 and NPF-7 for the North Anna Power Station, Units 1 and 2, located in Louisa County, Virginia.

The proposed amendments would have revised the Technical Specifications by deleting the Note from Surveillance Requirement 3.4.12.7 for the power-operated relief valves.

The Commission had previously issued a Notice of Consideration of Issuance of Amendments published in the Federal Register on April 13, 2004 (69 FR 19577). However, by letter dated July 1, 2004, the licensee withdrew the proposed change.

For further details with respect to this action, see the application for amendments dated March 4, 2004, and the licensee's letter dated July 1, 2004, which withdrew the application for license amendments. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or (301) 415-4737 or by e-mail to pdr@nrc.gov.

Dated at Rockville, Maryland, this 7th day of July 2004.
For the Nuclear Regulatory Commission.
Stephen Monarque,
Project Manager, Section 1, Project Directorate II, Division of Licensing Project Management, Office of Nuclear Reactor Regulation.

[FR Doc. 04-16899 Filed 7-23-04; 8:45 am]

BILLING CODE 7590-01-P